SMALL BUSINESS ADMINISTRATION

Small Business & Agriculture Regulatory Enforcement Ombudsman; Office of the National Ombudsman; Regulatory Enforcement Fairness Program; Public Federal Regulatory Enforcement Fairness Hearing; Region V Regulatory Fairness Board

The Small Business Administration Region V Regulatory Fairness Board and the SBA Office of the National Ombudsman will hold a Public Hearing on Thursday, June 10, 2004, at 9:30 a.m. at the Rochester Community and Technical College, Heintz Center, Room 114-116, 1926 College View Road, SE., Rochester, MN 55904, to receive comments and testimony from small business owners, small government entities, and small non-profit organizations concerning regulatory enforcement and compliance actions taken by federal agencies.

Anyone wishing to attend or to make a presentation must contact Michael Lyons in writing or by fax, in order to be put on the agenda. Michael Lyons, Economic Development Specialist, SBA Minnesota District Office, 100 N. 6th Street, Suite 210-C, Minneapolis, MN 55403, phone (612) 370-2343, fax (202) 481-4556, e-mail: Michael.lyons@sba.gov.

For more information, see our Web site at www.sba.gov/ombudsman.

Dated: May 27, 2004.
Peter Sorum,
Senior Advisor, Office of the National Ombudsman.

[FR Doc. 04-12653 Filed 6-3-04; 8:45 am]

BILLING CODE 8025-01-P